DEPARTMENT OF LABOR

Employment and Training Administration

[TA-W-58,485]

Rawlings Sporting Goods Company, a Subsidiary of K2, Inc., Licking, MO; Notice of Revised Determination on Reconsideration

On February 2, 2006, the Department issued an Affirmative Determination Regarding Application for Reconsideration for the workers and former workers of Rawlings Sporting Goods Company, A Subsidiary of K2, Inc., Licking, Missouri. The Department's Notice was published in the Federal Register on February 10, 2006 (71 FR 7076).

The initial negative determination was based on the findings that the subject worker group does not produce an article within the meaning of Section 222(a)(2) of the Trade Act and do not support a domestic production facility that is import-impacted. Workers produced graphic art design for apparel manufactured at affiliated facilities in Costa Rica and Washington, Missouri. Workers were separated when the subject facility closed in 2005.

In the request for reconsideration, the petitioner alleged that art design production shifted to Costa Rica in 2005.

During the reconsideration investigation, the Department contacted a company official who stated that art design shifted to Costa Rica in 2005.

The investigation also revealed that all criteria have been met in regard to Alternative Trade Adjustment Assistance (ATAA). A significant number or proportion of the worker group are age fifty years or over and workers possess skills that are not easily transferable. Competitive conditions within the industry are adverse.

Conclusion

After careful review of the additional facts obtained on reconsideration, I conclude that a shift of art design production to Costa Rica contributed importantly to worker separations at the subject firm.

In accordance with the provisions of the Act, I make the following certification:

All workers of Rawlings Sporting Goods Company, A Subsidiary of K2, Inc., Licking, Missouri, who became totally or partially separated from employment on or after December 5, 2004, through two years from the date of this certification, are eligible to apply for adjustment assistance under Section 223 of the Trade Act of 1974, and are also eligible to apply for alternative trade adjustment assistance under Section 246 of the Trade Act of 1974.

Signed in Washington, DC, this 27th day of March 2006.
Elliott S. Kushner,
Certifying Officer, Division of Trade Adjustment Assistance.

[FR Doc. E6-5519 Filed 4-12-06; 8:45 am]

BILLING CODE 4510-30-P